DEPARTMENT OF TRANSPORTATION

Surface Transportation Board

[Docket No. AB 603 (Sub-No. 2X)]

V & S Railway, LLC—Discontinuance of Service Exemption—in Pueblo, Crowley and Kiowa Counties, CO

V & S Railway, LLC (V & S) has filed a verified notice of exemption under 49 CFR pt. 1152 subpart F-Exempt Abandonments and Discontinuances of Service to discontinue service over a line of railroad between milepost 868.5 near NA Junction 81022 and milepost 808.3 near Haswell 81045, a distance of 60.2 miles, in Pueblo, Crowley, and Kiowa Counties, Colo. (the line). The line traverses United States Postal Service Zip Codes 81022, 81025, 81039, 81062, 81033, 81063, and 81045.

V & S has certified that: (1) No local traffic has moved over the line for at least two years; (2) any overhead traffic on the line can be rerouted over other lines; and (3) no formal complaint filed by a user of rail service on the line (or by a state or local government entity acting on behalf of such user) regarding cessation of service over the line either is pending with the Surface Transportation Board (Board) or with any U.S. District Court or has been decided in favor of complainant within the two-year period. V & S has further certified that the requirements at 49 CFR 1105.12 (newspaper publication) and 49 CFR 1152.50(d)(1) (notice to governmental agencies) have been met.¹

¹ Because this is a discontinuance proceeding and not an abandonment, the proceeding is exempt from the requirements of 49 CFR 1105.7 (environmental reports), 49 CFR 1105.8 (historic reports), and 49 CFR 1105.11 (transmittal letter).

As a condition to this exemption, any employee adversely affected by the discontinuance shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) to subsidize continued rail service has been received, this exemption will become effective on July 28, 2012, unless stayed pending reconsideration. Petitions to stay that do not involve environmental issues and formal expressions of intent to file an OFA to subsidize continued rail service under 49 CFR 1152.27(c)(2) ² must be filed by July 9, 2012.³ Petitions to reopen must be filed by July 18, 2012, with the Surface Transportation Board, 395 E Street SW., Washington, DC 20423-0001.

² Each OFA must be accompanied by the filing fee, which is currently set at $1,500. See 49 CFR 1002.2(f)(25).

³ Because this is a discontinuance proceeding and not an abandonment, trail use/rail banking and public use conditions are not appropriate.

A copy of any petition filed with the Board should be sent to V & S's representative: Fritz R. Kahn, Fritz R. Kahn, P.C., 1919 M Street NW., (7th Floor), Washington, DC 20036.

If the verified notice contains false or misleading information, the exemption is void ab initio.

Board decisions and notices are available on our Web site at www.stb.dot.gov.

Decided: June 20, 2012.
By the Board, Richard Armstrong, Acting Director, Office of Proceedings.
Jeffrey Herzig,
Clearance Unit.

[FR Doc. 2012-15787 Filed 6-27-12; 8:45 am]

BILLING CODE 4915-01-P